DEPARTMENT OF THE INTERIOR

National Park Service

[NPS-WASO-NAGPRA-NPS0036872; PPWOCRADN0-PCU00RP14.R50000]

Notice of Inventory Completion: Nevada Historical Society, Reno, NV

AGENCY: National Park Service, Interior.

ACTION: Notice.

SUMMARY: In accordance with the Native American Graves Protection and Repatriation Act (NAGPRA), the Nevada Historical Society has completed an inventory of human remains and has determined that there is no cultural affiliation between the human remains and any Indian Tribe. The human remains were removed from Churchill County, NV.

DATES: Disposition of the human remains in this notice may occur on or after December 7, 2023.

ADDRESSES: Anna J. Camp, Nevada State Museum, Carson City, 600 North Carson Street, Carson City, NV 89701, telephone (775) 687-4810, email acamp@nevadaculture.org.

SUPPLEMENTARY INFORMATION: This notice is published as part of the National Park Service's administrative responsibilities under NAGPRA. The determinations in this notice are the sole responsibility of the Nevada Historical Society. The National Park Service is not responsible for the determinations in this notice. Additional information on the determinations in this notice, including the results of consultation, can be found in the inventory or related records held by the Nevada State Museum, Carson City.

Description

Human remains representing, at minimum, 10 individuals were removed from Churchill County, NV. The ancestral remains were removed from two surface locations—Sites 8 and 13—in the Humboldt Sink (an intermittent dry lakebed) by L.L. Loud, who conducted research for the University of California, Berkeley between April 1 and August 1, 1912. Site 8 was located at the end of a ridge near Humboldt Lake and Site 13 was uncovered by drifting sands and/or a rise in lake water. The Nevada Historical Society (NHS) received approval to purchase part of the objects collected by Loud in 1912. The collection arrived in Reno in the summer of 1918. Institutional history and documentation indicate that one third of the collection was purchased by the Nevada Historical Society and there is some information showing that one third was retained by the University of California, Berkeley (UCB). The remaining third purportedly was retained by the Heye Museum of the American Indian, but according to Loud and Harrington (1924), “[t]he collection was divided between the University of California and the Nevada Historical Society.” Consequently, we believe that the collection was split in half between UCB and NHS. No associated funerary objects are present.

Aboriginal Land

The human remains in this notice were removed from known geographic locations. These locations are the aboriginal lands of one or more Indian Tribes. The following information was used to identify aboriginal land: a final judgment of the Indian Claims Commission or the United States Court of Claims.

Determinations

Pursuant to NAGPRA and its implementing regulations, and after consultation with the appropriate Indian Tribes, the Nevada Historical Society has determined that:

• The human remains described in this notice represent the physical remains of 10 individuals of Native American ancestry.

• No relationship of shared group identity can be reasonably traced between the human remains and any Indian Tribe.

• The human remains described in this notice were removed from the aboriginal land of the Lovelock Paiute Tribe of the Lovelock Indian Colony, Nevada.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after December 7, 2023. If competing requests for disposition are received, the Nevada Historical Society must determine the most appropriate requestor prior to disposition. Requests for joint disposition of the human remains are considered a single request and not competing requests. The Nevada State Museum, Carson City is responsible for sending a copy of this notice to the Indian Tribe identified in this notice.

Authority: Native American Graves Protection and Repatriation Act, 25 U.S.C. 3003, and the implementing regulations, 43 CFR 10.9 and § 10.11.

Dated: October 27, 2023.
Melanie O'Brien,
Manager, National NAGPRA Program.

[FR Doc. 2023-24530 Filed 11-6-23; 8:45 am]

BILLING CODE 4312-52-P